DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility To Apply for Trade Adjustment Assistance
[2/23/2011 through 3/10/2011]
Firm name | Address | Date accepted for investigation | Products
Allcraft Mold, Inc | 529 W. Morse Avenue, Schaumburg, IL 60193 | 01-Mar-11 | The firm manufactures molds and dies used by plastic injection molders.
Arctic Hunter, LLC | 7216 Interlaaken Drive, SW., Lakewood, WA 98499 | 01-Mar-11 | The fishery sells crabs caught in Alaskan waters.
Brekkaa Fisheries, Inc | 17403 5th Ave West, Bothell, WA 98102 | 11-Feb-11 | The fishery sells crabs caught in Alaskan waters.
Brooks Machine Products, Ltd | 4 Martin Brook Street, Unadilla, NY 13849 | 08-Mar-11 | The firm manufactures high precision stampings and forming parts merged with drilling, milling and turning.
Checkerboard, Ltd | 216 West Boylston Street, W. Boylston, MA 01583 | 08-Mar-11 | The firm produces custom fine stationery products, including wedding invitations, bar/bat mitzvah invitations, birth announcements, party invitations and personalized holiday cards.
Ironwood Manufacturing, Inc | 1700 Turner Street; PO Box 1420, Missoula, MT 59806 | 01-Mar-11 | The firm manufactures wooden school and office furniture.
Rommesmo Companies, Inc | 4401 Main Avenue, Fargo, ND 58107 | 08-Mar-11 | The firm manufactures steel fabrications.
The Henry Perkins Company | 180 Broad Street, Bridgewater, MA 02324 | 08-Mar-11 | The firm manufactures raw castings of all grades of iron.
West Coast Fab, Inc | 700 S. 32nd Street, Richmond, CA 94804 | 08-Mar-11 | The firm manufactures products made from steel, aluminum, and stainless.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: March 10, 2011.
Bryan Borlik,
Director.

[FR Doc. 2011-6174 Filed 3-16-11; 8:45 am]

BILLING CODE 3510-WH-P